DEPARTMENT OF DEFENSE

Department of the Army

Privacy Act of 1974; System of Records

AGENCY: Department of the Army, DOD.

ACTION: Notice to add a system of records.

SUMMARY: The Department of the Army is adding a system of records notice in its existing inventory of record systems subject to the Privacy Act of 1974, (5 U.S.C. 552a), as amended.

DATES: This proposed action is effective without further notice on March 1, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on January 22, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 24, 2002.
L.M. Bynum,
Alternate OSD Federal Register Liaison Officer, Department of Defense.

A0500-3c DAMO

System Name:

Emergency Relocation Group (ERG) Roster Files.

System Location:

Headquarters, Department of the Army, Army Continuity of Operations Program Office, 400 Army Pentagon, Washington, DC 20310-0400.

Categories of Individuals Covered by the System:

Personnel at Headquarters, Department of the Army and all associated Field Operating Agencies designated to occupy key positions that directly support the Continuity of Operation plan when an emergency situation develops.

Categories of Records in the System:

Individual's name, office/home/cellular/pager telephone numbers, the last four numbers of the individual's Social Security Number and relocation assignment.

Authority for Maintenance of the System:

10 U.S.C. 3013, Secretary of the Army; E.O. 12656, Assignment of Emergency Preparedness Responsibilities; DoD Directive 3020.26, Continuity of Operations Policy and Planning; and Army Regulation 500-3, Army Continuity of Operations.

Purpose(s):

To notify designated Headquarters, Department of the Army personnel as to their responsibilities and relocation assignments in conditions of emergency. The Dialogic Communicator will execute the notification of the Emergency Relocation Group (ERG). Therefore, ERG members will ensure the execution of essential missions and functions during the emergency situation.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the agency's compilation of systems of records notices apply to this system.

Policies and Practices for Storing, Retrieving, Accessing, Retaining, and Disposing of Records in the System:

Storage:

Records are maintained on paper and on electronic media.

Retrievability:

Information is retrieved by individual's name.

Safeguards:

The building in which the system is housed employs security guards. Records that are maintained are in areas that are accessible only to authorized personnel who are properly screened, cleared, and trained. Access to personal information is restricted to those who require the records in the performance of official duties.

Retention and Disposal:

Disposition pending (until the National Archives and Records Administration approves retention and disposal schedule, records will be treated as permanent).

System Manager(s) and Address:

Deputy Division Chief, Headquarters, Department of the Army, Army Continuity of Operations Program Office, 400 Army Pentagon, Washington, DC 20310-0400.

Notification Procedure:

Individuals seeking to determine whether information about themselves is contained in this system should address written inquiries to the Privacy Administrator, Headquarters, Department of the Army, Army Continuity of Operations Program Office, 400 Army Pentagon, Washington, DC 20310-0400.

Record Access Procedures:

Individuals seeking access to information about themselves contained in this system should address written inquiries to the Privacy Administrator, Headquarters, Department of the Army, Army Continuity of Operations Program Office, 400 Army Pentagon, Washington, DC 20310-0400.

Contesting Record Procedures:

The Army's rules for accessing records, and for contesting contents and appealing initial agency determinations are contained in Army Regulation 340-21; 32 CFR part 505; or may be obtained from the system manager.

Record Source Categories:

From the individual.

Exemptions Claimed for the System:

None.

[FR Doc. 02-2174 Filed 1-29-02; 8:45 am]

BILLING CODE 5001-08-P